DEPARTMENT OF STATE

[Public Notice 6251]

Notice of Availability of the Final Environmental Assessment and a Finding of No Significant Impact for the Proposed Enbridge Southern Lights Pipeline Project

AGENCY: Department of State.

ACTION: Notice of Availability of the Final Environmental Assessment and a Finding of No Significant Impact for the Proposed Enbridge Southern Lights Pipeline Project.

SUMMARY: This notice announces the availability of the Final Environmental Assessment and a Finding of No Significant Impact for the Proposed Enbridge Southern Lights Pipeline Project.

On April 19, 2007, Enbridge Pipelines (Southern Lights) L.L.C. applied for a Presidential permit to construct, connect, operate, and maintain facilities (including a 20-inch diameter pipeline) at the U.S.-Canadian border at Neche, Pembina County, North Dakota, for the purpose of transporting liquid hydrocarbons and other petroleum products between the United States and Canada. EPSL seeks this authorization in connection with its Southern Lights Pipeline Project (“LSr Project”), which is designed to transport Canadian crude oil from the Western Canadian Sedimentary Basin (“WCSB”) to existing refinery markets in the Midwest region of the United States.

Executive Order 13337 of April 30, 2004, as amended, delegates to the Secretary of State the President's authority to receive applications for permits for the construction, connection, operation, or maintenance of facilities, including pipelines, for the exportation or importation of petroleum, petroleum products, coal, or other fuels at the border of the United States and to issue or deny such Presidential Permits upon a national interest determination. The Executive Order directs the Secretary of State to refer the application and pertinent information to, and to request the views of, the heads of certain agencies before issuing a Permit and authorizes the Secretary to consult with other interested federal and state officials, as appropriate. The Executive Order also authorizes Federal Register notification of receipt of Presidential permit applications and for public comments on those applications. The functions assigned to the Secretary have been further delegated within the Department of State.

The Department of State published in the Federal Register a Notification of Receipt and Notice of Intent to prepare an Environment Assessment (EA) regarding the EPSL Application for a permit on July 27, 2007 (72 FR 41383). That notification solicited public comment on the application for a 45-day period, and announced the Department of State would conduct public scoping meetings along the proposed route. The Department's Notice of Availability of the draft EA and request for public comment was published in the Federal Register on November 29, 2007 (72 FR 67335), seeking comments by December 28, 2007. The Department received public comments in response to its two notices and has taken them into account in preparing the Final Environmental Assessment on the EPSL Application.

As required by Executive Order 13337, EPSL's pipeline application and a Draft Environmental Assessment were also transmitted to the relevant federal agencies for their review and comment on November 29, 2007. The Department of State received no objections from federal agencies regarding the issuance of a permit.

In accordance with the National Environmental Policy Act of 1969 (“NEPA”), 42 U.S.C. 4321-4370f, the Council of Environmental Quality Regulations for Implementing the Procedural Provisions of NEPA, 40 CFR Parts 1500-1508, and the Department's regulations for the implementation of NEPA, 22 CFR Part 161, EPSL has prepared a Final Environmental Assessment (FEA) under the guidance and supervision of the Department, with full public participation, including public meetings and ample opportunity for written and oral public comment on the project. Based on the FEA and the record created as part of the Department's evaluation of the EPSL application, on June 2, the Department determined that “issuance of a Presidential Permit authorizing construction of the proposed Southern Lights Pipeline would not have a significant impact on the quality of the human environment within the United States.” Accordingly, the Department on that date adopted a “Finding Of No Significant Impact” (FONSI) and determined that an environmental impact statement will not be prepared on the EPSL application.

FOR FURTHER INFORMATION CONTACT: The Final Environmental Assessment addressing this action is on file and may be reviewed by interested parties, along with the Finding of No Significant Impact, at the Department of State, 2200 C Street, NW., Room 3535, Washington, DC 20520 (Attn: Mr. J. Brian Duggan, Tel. 202-647-1291). The above documents may also be requested by e-mail at dugganjb@state.gov.

Issued in Washington, DC on June 2, 2008.
Stephen J. Gallogly,
Director, Office of International Energy and Commodity Policy, Department of State.

[FR Doc. E8-12861 Filed 6-6-08; 8:45 am]

BILLING CODE 4710-07-P